DEPARTMENT OF ENERGY

Federal Energy Regulatory Commission

Combined Notice of Filings

Take notice that the Commission has received the following Natural Gas Pipeline Rate and Refund Report filings:

Filings Instituting Proceedings

Docket Numbers: RP12-14-000.

Applicants: Dominion Transmission, Inc.

Description: Dominion Transmission, Inc. submits tariff filing per 154.204: DTI—October 11, 2011 Negotiated Rate Agreement to be effective 11/1/2011.

Filed Date: 10/11/2011.

Accession Number: 20111011-5210.

Comment Date: 5 p.m. Eastern Time on Monday, October 24, 2011.

Docket Numbers: RP12-15-000.

Applicants: Gas Transmission Northwest LLC.

Description: Gas Transmission Northwest LLC submits tariff filing per 154.204: Pressure Commitments to be effective 11/11/2011.

Filed Date: 10/11/2011.

Accession Number: 20111011-5262.

Comment Date: 5 p.m. Eastern Time on Monday, October 24, 2011.

Docket Numbers: RP12-16-000.

Applicants: National Fuel Gas Supply Corporation.

Description: National Fuel Gas Supply Corporation submits tariff filing per 154.203: Beacon Non-conforming Compliance Filing to be effective 9/22/2011.

Filed Date: 10/12/2011.

Accession Number: 20111012-5042.

Comment Date: 5 p.m. Eastern Time on Monday, October 24, 2011.

Docket Numbers: RP12-17-000.

Applicants: Southern Natural Gas Company, L.L.C.

Description: Southern Natural Gas Company, L.L.C. submits tariff filing per 154.204: SNG Name Change Filing Errata 2 to be effective 10/12/2011.

Filed Date: 10/12/2011.

Accession Number: 20111012-5113.

Comment Date: 5 p.m. Eastern Time on Monday, October 24, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 13, 2011.
Nathaniel J. Davis, Sr.,
Deputy Secretary.

[FR Doc. 2011-26980 Filed 10-18-11; 8:45 am]

BILLING CODE 6717-01-P